DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Evaluation of the Pacific Islands Managed and Protected Area Community (PIMPAC).

OMB Control Number: 0648-xxxx.

Form Number(s): None.

Type of Request: Regular submission (request for a new information collection).

Number of Respondents: 80.

Average Hours per Response: 1 hour per interview.

Burden Hours: 80.

Needs and Uses: The aim of the evaluation is to understand the effectiveness of the capacity development efforts of the Pacific Islands Managed and Protected Area Community, as known as PIMPAC. The survey will assess to what extent PIMPAC has developed human and organizational capacities to enhance protected area management in the Pacific island region. The survey will be used to interview primarily partners working at Not-for-profit organizations, state and federal agencies in the U.S. Pacific Affiliated Flag Islands of Hawaii, Guam, the Central Northern Marianas Islands, the Republic of Palau, the Federated States of Micronesia and the Republic of the Marshall Islands. Results of the survey are expected to help guide and improve the effectiveness of capacity development activities by PIMPAC for protected area management in the next ten years.

Affected Public: Federal Government, Not-for-profit institutions, State, and Governments in the U.S. Flag Islands and Freely Associated States.

Frequency: Once.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-02972 Filed 2-20-19; 8:45 am]

BILLING CODE 3510-22-P